DEPARTMENT OF THE INTERIOR

Bureau of Land Management

[LLCAC09000 L16100000.DF000 19XL; MO#4500122590]

Notice of Availability of the Central Coast Field Office Proposed Resource Management Plan Amendment and Final Environmental Impact Statement for Oil and Gas Leasing and Development, California

AGENCY: Bureau of Land Management, Interior.

ACTION: Notice of availability.

SUMMARY: In accordance with the National Environmental Policy Act of 1969, as amended, and the Federal Land Policy and Management Act of 1976, as amended, the Bureau of Land Management (BLM) has prepared a proposed Resource Management Plan (RMP) amendment and Final Environmental Impact Statement (EIS) for oil and gas leasing and development within the boundaries of the Central Coast Field Office, and by this notice is announcing its availability.

DATES: The BLM planning regulations state that any person who meets the conditions as described in the regulations may protest the BLM's proposed RMP amendment and Final EIS. A person who meets the conditions and files a protest must file the protest within 30 days of the date that the Environmental Protection Agency (EPA) publishes its Notice of Availability in the Federal Register.

ADDRESSES: Copies of the proposed RMP amendment and Final EIS have been sent to affected Federal, State, local, and tribal government agencies and to other stakeholders. Copies of the proposed RMP amendment and Final EIS are available for public inspection at the BLM Central Coast Field Office at 940 2nd Ave., Marina, CA 93933. Interested persons may also review the proposed RMP amendment and Final EIS on the internet at https://go.usa.gov/xEGQC.

All protests must be in writing (43 CFR 1610.5-2(a)(1)) and filed with the BLM Director, either as a hard copy or electronically via the BLM's ePlanning project website. To file a protest electronically, visit https://go.usa.gov/xEGQC. Protests in hard copy must be postmarked no more than 30 days after the date the EPA publishes its Notice of Availability of the Final EIS in the Federal Register and must be mailed to one of the following addresses:

Regular Mail: BLM Director (210), Attention: Protest Coordinator, P.O. Box 71383, Washington, DC 20024-1383.

Overnight Delivery: BLM Director (210), Attention: Protest Coordinator, 20 M Street SE, Room 2134LM, Washington, DC 20003.

FOR FURTHER INFORMATION CONTACT: Sky Murphy, BLM Planning and Environmental Coordinator, telephone (831) 582-2200; address Bureau of Land Management, Central Coast Field Office, 940 2nd Ave., Marina, CA 93933; or email blm_ca_ogeis@blm.gov.

Persons who use a telecommunications device for the deaf (TDD) may call the Federal Relay Service (FRS) at (800) 877-8339 to contact Sky Murphy during normal business hours. FRS is available 24 hours a day, 7 days a week, to leave a message or question with the above individual. You will receive a reply during normal business hours.

SUPPLEMENTARY INFORMATION: The Central Coast Field Office proposed RMP amendment and Final EIS describes and analyzes alternatives for the planning and management of oil and gas leasing and development on public lands and Federal mineral estate managed by the BLM Central Coast Field Office. The former Hollister Field Office moved to Marina, California, and is now called the Central Coast Field Office. The planning area is located in central California and comprises approximately 6.8 million acres of land. Within the planning area, the BLM manages approximately 300,000 acres of surface estate and approximately 800,000 acres of subsurface Federal mineral estate. Planning decisions in the proposed RMP amendment will apply only to the BLM-managed public lands and Federal mineral estate in the planning area.

Through this planning process, the BLM is revising the “2007 Resource Management Plan for the Southern Diablo Mountain Range and Central Coast of California” to analyze the effects of alternative oil and gas management approaches on public lands and Federal mineral estate. The proposed RMP amendment/Final EIS also includes implementation-level analysis regarding 14 leases that were the subject of litigation in 2011 and 2012.

In 2014, the BLM conducted scoping to solicit input from the public and interested agencies on the nature and extent of issues and impacts to be addressed. Fifteen issues were identified through the scoping process: (1) Water resources; (2) Health and safety; (3) Vegetation and wildlife; (4) Air quality; (5) Climate change; (6) Geology and seismicity; (7) Soil resources; (8) Socioeconomics; (9) Traffic; (10) Tribal and cultural resources; (11) Environmental justice; (12) Land use; (13) Livestock grazing; (14) Recreation; and (15) Visual resources.

To assist the agency decision maker and the public in focusing on appropriate solutions to planning issues, the proposed RMP amendment and Final EIS considers six management alternatives.

Alternative A. Alternative A would continue current management under the existing RMP. All Federal mineral estate would be available for oil and gas leasing, except for designated wilderness, wilderness study areas, the Fort Ord National Monument, and the Clear Creek Serpentine Area of Critical Environmental Concern (ACEC), which are closed under the existing RMP. No Surface Occupancy (NSO) stipulations would be applied in ACECs and to Recreation and Public Purpose (R&PP) leases. The Endangered Species stipulation from the existing RMP would apply in all areas open to leasing.

Alternative B. Under Alternative B, Federal mineral estate within the boundaries of oil and gas fields plus a 0.5-mile buffer currently identified by the California Division of Oil, Gas, and Geothermal Resources (DOGGR) would be available for leasing. Other areas would be closed to oil and gas leasing, including all National Conservation Lands. Controlled Surface Use (CSU) stipulations would apply to all lands open to leasing.

Alternative C. Under Alternative C, unless currently closed under the existing RMP, Federal mineral estate would be open to leasing within high oil and gas potential areas or within 0.5-mile of the boundaries of oil and gas fields currently identified by DOGGR, with the exception of core population areas of the giant kangaroo rat in the vicinity of Panoche, Griswold-Tumey and Ciervo Hills, which would be closed to leasing. CSU stipulations would apply to all lands open to leasing. NSO stipulations would apply to some lands open to leasing, including: (1) Threatened and endangered species critical habitat; (2) BLM-developed recreation and administrative sites; and (3) Special status split estate lands (e.g., State parks, county parks, lands with existing conservation easements, land trusts and scenic designations).

Alternative D. Under Alternative D, unless currently closed under the existing RMP, Federal mineral estate underlying BLM surface estate would be available for leasing. All Federal mineral estate underlying the Ciervo Panoche Natural Area (both BLM surface and split-estate lands) would be closed to leasing. CSU stipulations would apply to all lands open to leasing. NSO stipulations would be applied in ACECs and R&PP leases.

Alternative E. Under Alternative E, unless currently closed under the existing RMP, Federal mineral estate outside of a California Department of Water Resources Bulletin 118, Groundwater Basin or Sub-basin, would be available for leasing. CSU stipulations would apply to all lands open to leasing. NSO stipulations would apply to some lands open to leasing, including: (1) 12-digit Hydrologic Unit Codes (HUCs) intersecting EPA impaired, perennial surface waters (BLM surface and split estate); (2) 12-digit HUCs intersecting non-impaired, perennial surface waters that intersect split estate; (3) 12-digit HUC sub-watersheds with the highest aquatic intactness score; (4) 0.25 miles from non-impaired, perennial surface waters; and (5) 0.25 miles from eligible Wild and Scenic Rivers.

Alternative F (Preferred Alternative). Under Alternative F, all Federal mineral estate would be available for oil and gas leasing with CSU stipulations, except for designated wilderness, wilderness study areas, the Fort Ord National Monument, and the Clear Creek Serpentine ACEC, which are closed under the existing RMP. NSO stipulations would be applied in the Joaquin Rocks ACEC, as well as within ACECs and giant kangaroo rat core population areas in the Ciervo Panoche Natural Area. Under each action alternative, CSU stipulations would apply to all lands open to leasing. The CSU stipulations would mitigate impacts to sensitive resources such as protected, sensitive and priority species, critical and priority habitat, cultural resources, and water resources by requiring special operational constraints on surface use to protect these resources.

There are three ACECs managed by the CCFO: The Clear Creek Serpentine ACEC is approximately 31,000 acres; the Panoche/Coalinga ACEC is approximately 56,000 acres: And the Joaquin Rocks ACEC is approximately 8,000 acres. No boundaries of these ACECs are being modified by this proposed RMP amendment.

The proposed RMP amendment and Final EIS also addresses two leases and 12 prospective leases within the CCFO that do not contain NSO stipulations (non-NSO leases), pursuant to a July 2014, Federal court settlement agreement to resolve the disputes set forth in Center for Biological Diversity and Sierra Club v. Bureau of Land Management, et al., Case No. 11-06174 and Case No. 13-1749 (N.D. Cal.). The BLM's proposed plan identifies implementation-level decisions for these 14 issued and prospective leases. For each of the 14 leases, the implementation decision will determine whether the leases would be issued and identify stipulations necessary for resource protection. These implementation-level decisions are subject to appeal to the Interior Board of Land Appeals after the signing of a Record of Decision for this project.

Public comments on the draft RMP amendment and Draft EIS received from the public and internal BLM review in 2017 were considered and incorporated, as appropriate into the proposed plan. As a result of comments, the BLM developed and analyzed Alternative F to be consistent with the BLM's land use planning and energy development policies. Public comments resulted in the addition of clarifying text in the Final EIS.

Instructions for filing a protest with the Director of the BLM regarding the proposed RMP amendment and Final EIS may be found in the “Dear Reader” letter of the Central Coast Field Office proposed RMP amendment and Final EIS and at 43 CFR 1610.5-2. All protests must be in writing and mailed to the appropriate address, as set forth in the ADDRESSES section earlier or submitted electronically through the BLM ePlanning project website as described earlier. Protests submitted electronically by any means other than the ePlanning project website protest section will be invalid unless a protest is also submitted in hard copy. Protests submitted by fax will also be invalid unless also submitted either through ePlanning project website protest section or in hard copy.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Danielle Chi,
Deputy State Director, Fire and Resources.

[FR Doc. 2019-09599 Filed 5-9-19; 8:45 am]

BILLING CODE 4310-40-P